DEPARTMENT OF HEALTH AND HUMAN SERVICES

Substance Abuse and Mental Health Services Administration

Center for Substance Abuse Prevention Correction of Meeting Notice

Pursuant to Pub. L. 92-463, notice is hereby given of a correction of a notice of a meeting of the Substance Abuse Prevention (CSAP) National Advisory Council to be held in October 2004.

Public notice was given in the Federal Register on September 27, 2004 (Volume 69, Number 186, page 57711) that the CSAP National Advisory Council would be meeting on October 5 and 6, 2004 at The Times Building, One Times Square, Third Floor, New York, New York. The place for this meeting has subsequently changed to The Renaissance New York Hotel Times Square, Two Times Square, 714 Seventh Avenue at W. 48th Street, New York, New York. The agenda and date of the meeting and contact for additional information remain as announced.

Dated: September 30, 2004.
Toian Vaughn,
SAMHSA Committee Management Officer, Substance Abuse and Mental Health Services Administration.

[FR Doc. 04-22339 Filed 10-1-04; 8:45 am]

BILLING CODE 4162-20-P